DEPARTMENT OF JUSTICE

Drug Enforcement Administration

[Docket No. DEA-527]

Bulk Manufacturer of Controlled Substances Application: Halo Pharmaceuticals, Inc.

ACTION: Notice of application.

DATES: Registered bulk manufacturers of the affected basic classes, and applicants therefore, may file written comments on or objections to the issuance of the proposed registration on or before January 6, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on July 19, 2019, Halo Pharmaceutical Inc., 30 North Jefferson Road, Whippany, New Jersey 07981-1030 applied to be registered as a bulk manufacturer of the following basic classes of controlled substances:

Controlled substance | Drug code | Schedule
Dihydromorphine | 9145 | I
Hydromorphone | 9150 | II

The company plans to manufacture Hydromorphone (9150) for distribution to its customers. Dihydromorphone (9145) is an intermediate in the manufacture of Hydromorphone and is not for commercial distribution.

Dated: October 22, 2019.
William T. McDermott,
Assistant Administrator.

[FR Doc. 2019-24108 Filed 11-4-19; 8:45 am]

BILLING CODE 4410-09-P